DEPARTMENT OF JUSTICE

Community Oriented Policing Services; Public Meetings With Members of the Research Community, Subject-Matter Experts and the Public To Discuss Topics Relating to Policing; Executive Order—Establishment of the President's Task Force on 21st Century Policing

AGENCY: Community Oriented Policing Services, Justice.

ACTION: Notice of meeting.

SUMMARY: On December 18, 2014, President Barack Obama signed an Executive Order titled “Establishment of the President's Task Force on 21st Century Policing” establishing the President's Task Force on 21st Century Policing (“Task Force”). The Task Force seeks to identify best practices and make recommendations to the President on how policing practices can promote effective crime reduction while building public trust and examine, among other issues, how to foster strong, collaborative relationships between local law enforcement and the communities they protect. The Task Force will be holding its first public meeting.

The meeting agenda is as follows:

Call to Order

Invited witness testimony

Break

Discussion

DATES: The meeting date is: January 13, 2015, 9:00 a.m. to 3:00 p.m., Washington, DC.

ADDRESSES: The meeting location is Newseum, 555 Pennsylvania Avenue NW., Washington, DC 20001. The public is invited to submit written comments via U.S. Mail to: President's Task Force on Policing in the 21st Century, Office of Community Oriented Policing Services, U.S. Department of Justice, 145 N Street NE., 11th Floor, Washington, DC 20530.

FOR FURTHER INFORMATION CONTACT: Director, Ronald L. Davis, 202-514-4229 or PolicingTaskForce@usdoj.gov.

Address all comments concerning this notice to PolicingTaskForce@usdoj.gov.

SUPPLEMENTARY INFORMATION: The meeting is open to the public with limited seating. Time will be allocated for hearing public comments. Depending on the number of persons wishing to comment and time available, the time for individual oral comments may be limited.

Electronic Access and Filing Addresses

The Task Force is interested in receiving written comments including proposed recommendations from individuals, groups, advocacy organizations, and professional communities. Additional information on how to provide your comments will be posted to www.cops.usdoj.gov.

Additional information (viewing, access, materials, etc.) for the public meeting will be posted at www.cops.usdoj.gov.

Melanca Clark,
Chief of Staff.

[FR Doc. 2014-30456 Filed 12-29-14; 8:45 a.m.]

BILLING CODE P